DEPARTMENT OF TRANSPORTATION

Federal Aviation Administration

14 CFR Part 39

[Docket No. FAA-2017-0520; Directorate Identifier 2016-NM-143-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 series airplanes; and Model A300 B4-600, B4-600R, and F4-600R series airplanes, and Model A300 C4-605R Variant F airplanes (collectively called Model A300-600 series airplanes). This proposed AD was prompted by reports of cracks initiating at the upper radius of frame (FR) 47 and a determination that the current inspection procedure is not reliable in detecting certain cracking of the forward fitting of FR 47. This proposed AD would require repetitive inspections to detect cracking of the upper radius of the forward fitting of FR 47, and related investigative actions and corrective actions if necessary. We are proposing this AD to address the unsafe condition on these products.

DATES: We must receive comments on this proposed AD by July 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0520; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Comments Invited

We invite you to send any written relevant data, views, or arguments about this proposed AD. Send your comments to an address listed under the ADDRESSES section. Include “Docket No. FAA-2017-0520; Directorate Identifier 2016-NM-143-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0150, dated July 25, 2016 (referred to after this as the Mandatory Continuing Airworthiness Information, or “the MCAI”), to correct an unsafe condition on all. The MCAI states:

During scheduled maintenance inspections on the fuselage, cracks initiating at the upper radius of frame (FR) 47 have been reported on several aeroplanes. Similar damage was also discovered on the A300 fatigue test fuselage.

This condition, if not detected and corrected, could reduce the structural integrity of the fuselage.

Prompted by these findings, Airbus issued Service Bulletin (SB) A300-53-0246, SB A300-53-6029 and SB A300-53-9014 to provide inspection instructions and, consequently, DGAC France issued AD F-2006-016 to require repetitive inspections and corrective action.

Since that [French] AD was issued, further investigation led to the conclusion that the current ultrasonic inspection performed in accordance with Airbus SB A300-53-0246 Revision 06, or SB A300-53-6029 Revision 08, or SB A300-53-9014 Revision 01, as applicable, was not reliable to detect deep crack going downward.

Consequently, to ensure the crack depth is correctly measured whatever the crack direction, Airbus developed a new nondestructive testing method [eddy current] for this special detailed inspection (SDI) and revised the affected SBs accordingly.

For the reasons described above, this [EASA] AD retains the requirements of DGAC France AD F-2006-016, which is superseded, but requires the accomplishment of repetitive SDI to replace the previously required ultrasonic inspections [and related investigative actions and corrective actions if necessary].

Related investigative actions include an ultrasonic inspection for cracking on the forward face of forward fitting and a detailed inspection for cracking of the aft fitting around the fasteners. Corrective actions include crack repairs, modification of the sealing fittings and sealing shims. This proposed AD requires reporting of the inspection results to Airbus. You may examine the MCAI in the AD docket on the Internet at http://www.regulations.gov by searching for and locating Docket No. FAA-2017-0520.

Related Service Information Under 1 CFR Part 51

Airbus has issued Airbus Service Bulletin A300-53-0246, Revision 08, including Appendix 1, dated April 13, 2016 (for Model A300 series airplanes); and Airbus Service Bulletin A300-53-6029, Revision 12, including Appendix 1, dated April 13, 2016 (for Model A300-600 series airplanes). The service information describes procedures for doing an SDI for cracking of the FR 47 forward fitting upper radius on the left-hand and right-hand sides of the fuselage, and related investigative actions and corrective actions. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type designs.

This NPRM would not supersede AD 2007-26-14, Amendment 39-15316 (73 FR 2803, January 16, 2008). Rather, we have determined that a stand-alone AD would be more appropriate to address the changes in the MCAI. This NPRM would require repetitive inspections to detect cracking of the upper radius of the forward fitting of FR 47, and related investigative actions and corrective actions if necessary. Accomplishment of the proposed actions would then terminate all requirements of AD 2007-26-14 for the inspected airplane.

Differences Between This Proposed AD and the MCAI or Service Information

Although the MCAI and service information allow further flight if cracks are found during accomplishment of the required action, this proposed AD requires that any cracking be repaired before further flight.

Costs of Compliance

We estimate that this proposed AD affects 132 airplanes of U.S. registry.

We estimate the following costs to comply with this proposed AD:

Estimated Costs
Action | Labor cost | Parts cost | Cost per product | Cost on U.S. operators
Inspection | 19 work-hours × $85 per hour = $1,615 | $0 | $1,615 per inspection cycle | $213,180 per inspection cycle.
Reporting | 1 work-hour × $85 per hour = $85 | 0 | $85 per inspection cycle | $11,220 per inspection cycle.

We estimate the following costs to do any necessary related investigative and corrective actions that would be required based on the results of the proposed inspection. We have no way of determining the number of airplanes that might need these repairs:

On-Condition Costs
Action | Labor cost | Parts cost | Cost per product
Related investigative and Corrective actions | 21 work-hours × $85 per hour = $1,785 | $1,835 | $3,620

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2017-0520; Directorate Identifier 2016-NM-143-AD.

(a) Comments Due Date

We must receive comments by July 17, 2017.

(b) Affected ADs

This AD affects AD 2007-26-14, Amendment 39-15316 (73 FR 2803, January 16, 2008) (“AD 2007-26-14”).

(c) Applicability

This AD applies to the Airbus airplanes identified in paragraphs (c)(1) through (c)(5) of this AD, certificated in any category, except airplanes that have been repaired as specified in Airbus Service Bulletin A300-53-0370 or Airbus Service Bulletin A300-53-6144, as applicable.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 53, Fuselage.

(e) Reason

This AD was prompted by reports of cracks initiating at the upper radius of frame (FR) 47 and a determination that the current inspection procedure is not reliable in detecting certain cracking of the forward fitting of FR 47. We are issuing this AD to detect and correct fatigue cracking of the FR 47 forward fitting upper radius on the left-hand and right-hand sides of the fuselage, which could propagate and result in reduced structural integrity of the airplane.

(f) Compliance

Comply with this AD within the compliance times specified, unless already done.

(g) Repetitive Inspections

Except as required by paragraph (h) of this AD: Before exceeding 10,000 flight cycles since first flight of the airplane or within 30 days after the effective date of this AD, whichever is later, do a special detailed inspection (SDI) for cracking of the FR 47 forward fitting upper radius on the left-hand and right-hand sides of the fuselage, in accordance with the Accomplishment Instructions of the applicable Airbus service information specified in paragraphs (g)(1) and (g)(2) of this AD. Repeat the inspection thereafter at intervals not to exceed 4,150 flight cycles, except as required by paragraph (j) of this AD.

(1) Airbus Service Bulletin A300-53-0246, Revision 08, including Appendix 1, dated April 13, 2016.

(2) Airbus Service Bulletin A300-53-6029, Revision 12, including Appendix 1, dated April 13, 2016.

(h) Initial Inspection for Airplanes Previously Inspected

For airplanes previously inspected as specified in the applicable Airbus service information specified in paragraphs (h)(1) through (h)(6) of this AD and on which no cracking was found: Within 4,150 flight cycles after the most recent inspection, do the inspection for cracking of the FR 47 forward fitting upper radius required by paragraph (g) of this AD.

(1) Airbus Service Bulletin A300-53-0246, Revision 06, dated October 19, 2005.

(2) Airbus Service Bulletin A300-53-0246, Revision 07, dated September 9, 2008.

(3) Airbus Service Bulletin A300-53-6029, Revision 08, dated October 19, 2005.

(4) Airbus Service Bulletin A300-53-6029, Revision 09, dated September 9, 2008.

(5) Airbus Service Bulletin A300-53-6029, Revision 10, dated July 9, 2009.

(6) Airbus Service Bulletin A300-53-6029, Revision 11, dated September 28, 2009.

(i) Inspections for Airplanes With Abnormal Load Events

For airplanes on which any crack was found during any inspection done as specified in Airbus Service Bulletin A300-53-0246 or Airbus Service Bulletin A300-53-6029, as applicable, and on which any abnormal load event, such as hard landing or flight in excessive turbulence, occurred within 3 months before the effective date of this AD or occurs on or after the effective date of this AD: Within 3 months after each event, accomplish an SDI for cracking of the FR 47 forward fitting upper radius, left-hand and right-hand sides of the fuselage, in accordance with the applicable Accomplishment Instructions of the Airbus service information specified in paragraphs (g)(1) or (g)(2) of this AD. If, during this 3-month period, another abnormal load event occurs, and if no SDI has yet been accomplished, before further flight after the second event, obtain corrective action instructions from the Manager, International Branch, ANM-116, Transport Airplane Directorate, FAA; or the European Aviation Safety Agency (EASA); or Airbus's EASA Design Organization Approval (DOA), and accomplish those instructions accordingly.

(j) Corrective Actions for Airplanes With Cracks

If, during any SDI as required by paragraph (g), (h), or (i) of this AD, any crack is found: Before further flight, do the applicable related investigative actions and corrective actions, in accordance with the Accomplishment Instructions of the applicable Airbus service information specified in paragraphs (g)(1) or (g)(2) of this AD, and obtain additional corrective action instructions from the Manager, International Branch, ANM-116, Transport Airplane Directorate, FAA; or EASA; or Airbus's EASA DOA, and accomplish those instructions accordingly before further flight.

(k) Reporting

Submit a report of the findings (both positive and negative) of each SDI inspection required by paragraphs (g), (h), and (i) of this AD to Airbus Service Bulletin Reporting Online Application on Airbus World (https://w3.airbus.com/), at the applicable time specified in paragraph (k)(1) or (k)(2) of this AD.

(1) If the inspection was done on or after the effective date of this AD: Submit the report within 30 days after the inspection.

(2) If the inspection was done before the effective date of this AD: Submit the report within 30 days after the effective date of this AD.

(l) Terminating Action for AD 2007-26-14

Accomplishing any inspection required by paragraph (g) or (h) of this AD terminates all requirements of AD 2007-26-14 for the inspected airplane.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA AD 2016-0150, dated July 25, 2016, for related information. This MCAI may be found in the AD docket on the Internet at http://www.regulations.gov by searching for and locating Docket No. FAA-2017-0520.

(2) For more information about this AD, contact Dan Rodina, Aerospace Engineer, International Branch, ANM-116, Transport Airplane Directorate, FAA, 1601 Lind Avenue SW., Renton, WA 98057-3356; telephone: 425-227-2125; fax: 425-227-1149.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this service information at the FAA, Transport Airplane Directorate, 1601 Lind Avenue SW., Renton, WA. For information on the availability of this material at the FAA, call 425-227-1221.

Issued in Renton, Washington, on May 19, 2017.
Victor Wicklund,
Acting Manager, Transport Airplane Directorate, Aircraft Certification Service.

[FR Doc. 2017-10979 Filed 5-30-17; 8:45 am]

BILLING CODE 4910-13-P